DEPARTMENT OF THE INTERIOR

Bureau of Land Management

[WO-300-1330-EO]

Notice of a 120-Day Public Comment Period To Affirm the Policy for the Standards To Establish the Potash Enclave as Used To Administer the Secretarial Order of 1986 Entitled “Oil and Gas and Potash Leasing and Development Within the Designated Potash Area of Eddy and Lea Counties, New Mexico”

AGENCY: Bureau of Land Management, Interior.

ACTION: Notice.

SUMMARY: The Bureau of Land Management (BLM) originally published this notice on Tuesday, August 30, 2005 [70 FR 51364] and solicited public comments on the report which affirms the existing policy on the criteria used to establish the potash enclave. The BLM gave the public 30 days to comment on these Policy Standards. The public comment period ended on Thursday, September 29, 2005. The BLM received numerous requests to lengthen the comment period. The BLM will re-issue a comment period for 120 days.

DATES: Comments should be submitted to the address below no later than February 3, 2006.

ADDRESSES: Written comments should be addressed to Group Manager, Solid Minerals, 1620 L, Street, NW., Mail Stop 501 LS, Washington, DC 20036.

FOR FURTHER INFORMATION CONTACT: Charlie Beecham, Mining Engineer, 1620 L, St., NW., Mail Stop 501 LS, Washington, DC 20036, telephone (202) 785-6570.

Thomas Lonnie,
Assistant Director, Minerals, Realty and Resource Protection.

[FR Doc. 05-20087 Filed 10-5-05; 8:45 am]

BILLING CODE 4310-FB-P